DEPARTMENT OF LABOR

Employment and Training Administration

Final Finding of No Significant Impact, Gary Job Corps Center Proposed Disposal and Reuse

SUMMARY: The Department of Labor's (DOL) Employment and Training Administration, pursuant to the Council on Environmental Quality Regulations) implementing procedural provisions of the National Environmental Policy Act (NEPA), gives final notice of the proposed disposal of two tracts at the Gary Job Corps Center totaling 244.91 acres and that this project will not have a significant adverse impact on the environment.

DATES: These findings are effective as of February 13, 2023.

ADDRESSES: For further information contact Derrek Sanks, Department of Labor, 200 Constitution Avenue NW, Room N-4460, Washington, DC 20210; Telephone (202) 693-9972 (this is not a toll free number).

FOR FURTHER INFORMATION CONTACT: Derrek Sanks at (202) 693-9972 (this is not a toll free number).

SUPPLEMENTARY INFORMATION: A public notice of availability of the draft environmental assessment (EA) was published in the San Marcos Daily Record, Texas, on July 28, 2022. The review period extended for 31 days, ending on August 29, 2022. No public comments were received. No changes to the findings of the EA have been made.

Implementation of the proposed action alternative will not have significant impacts on the human environment. The determination is sustained by the analysis in the EA, agency consultation, the inclusion and consideration of public review, and the capability of mitigations to reduce or avoid impacts. Any adverse environmental effects that could occur are no more than minor in intensity, duration and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

Brent Parton,
Acting Assistant Secretary for Employment and Training, Labor.

[FR Doc. 2023-02959 Filed 2-10-23; 8:45 am]

BILLING CODE 4510-FN-P